SMALL BUSINESS ADMINISTRATION

Region IX Regulatory Fairness Board; Public Federal Regulatory Enforcement Fairness Hearing

The Small Business Administration Region IX Regulatory Fairness Board and the SBA Office of the National Ombudsman will hold a Public Hearing on Tuesday, March 1, 2005 at 8:30 a.m. at the City of Anaheim, Gordon Hoyt Center, 201 South Anaheim Blvd., 2nd floor, Anaheim, CA 92805, phone (714) 765-4323, to receive comments and testimony from small business owners, small government entities, and small non-profit organizations concerning regulatory enforcement and compliance actions taken by federal agencies.

Anyone wishing to attend or to make a presentation must contact Dace Pavlovskis in writing or by fax, in order to be put on the agenda. Dace Pavlovskis, District Counsel, SBA Santa Ana District Office, 200 Santa Ana Blvd., Suite 700, Santa Ana, CA 92701, phone (714) 550-7420 Ext. 3601, fax (202) 481-0901, e-mail: Dace.Pavlovskis@sba.gov.

For more information, see our Web site at http://www.sba.gov/ombudsman.

Dated: January 26, 2005.
Peter Sorum,
Senior Advisor, Office of the National Ombudsman.

[FR Doc. 05-1774 Filed 1-31-05; 8:45 am]

BILLING CODE 8025-01-P